EQUAL EMPLOYMENT OPPORTUNITY COMMISSION

29 CFR Part 1630

Interpretive Guidance on Title I of the Americans with Disabilities Act

AGENCY: Equal Employment Opportunity Commission.

ACTION: Final rule.

SUMMARY: This rule rescinds several sentences of the Equal Employment Opportunity Commission's (EEOC) Interpretive Guidance on Title I of the Americans with Disabilities Act that address mitigating measures used by persons with impairments. This action is necessary as a result of recent Supreme Court rulings.

EFFECTIVE DATE: June 8, 2000.

FOR FURTHER INFORMATION CONTACT: Christopher J. Kuczynski, Assistant Legal Counsel, ADA Division, Office of Legal Counsel, or Sharon Rennert, Senior Attorney Advisor, ADA Division, Office of Legal Counsel. They can be reached at 202-663-4503. This final rule is also available in the following formats: large print, braille, electronic file on computer disk, and audio-tape. Copies may be obtained from the EEOC's Publication Center by calling 1-800-669-3362 (voice) or 1-800-800-3302 (TDD).

SUPPLEMENTARY INFORMATION: The EEOC is rescinding several sentences of the Interpretive Guidance on Title I of the Americans with Disabilities Act, found in the Appendix to 29 CFR 1630.2(h) and (j), that address mitigating measures used by persons with impairments. The guidance set forth in those sentences is no longer valid in light of the Supreme Court's rulings in Sutton v. United Airlines, Inc., 527 U.S. __(1999), and Murphy v. United Parcel Service, Inc., 527 U.S.—(1999). In those cases, the Supreme Court held that the determination of whether an individual has an impairment that substantially limits a major life activity under the ADA must be made by considering any mitigating measures (such as medications or assistive devices) that the individual uses to eliminate or reduce the effects of an impairment.

Regulatory Procedures

Regulatory Flexibility Act

In accordance with the Regulatory Flexibility Act (Public Law 96-354, as amended by Public Law 104-121), the Commission has reviewed this regulation, and by approving it, certifies under 5 U.S.C. 605(b) that this regulation will not have a significant economic impact on a substantial number of small entities.

Executive Order 12866

This rule is not a significant regulatory action as defined in Executive Order 12866 and is therefore not subject to review by the Office of Management and Budget.

List of Subjects in 29 CFR Part 1630

Equal employment opportunity, Individuals with disabilities.

For the Commission.
Ida L. Castro,
Chairwoman.

Accordingly, the Commission amends 29 CFR chapter XIV as follows:

PART 1630—[AMENDED]

1. The authority citation for part 1630 continues to read as follows:

Authority: 42 U.S.C. 12116.

Appendix to Part 1630 [Amended]

2. Amend the Appendix to Part 1630 as follows:

a. Section 1630.2(h) is amended by removing the second paragraph.

b. Section 1630.2(j) is amended by removing the third, fourth, and fifth sentences of the sixth paragraph, and by removing “, without regard to mitigating measures such as medicines, or assistive or prosthetic devices” from the first sentence of the eighth paragraph.

[FR Doc. 00-14476 Filed 6-7-00; 8:45 am]

BILLING CODE 6570-01-U